DEPARTMENT OF THE INTERIOR

National Park Service

[N6428; NPS-WASO-NAGPRA-NPS0040835; PPWOCRADN0-PCU00RP14.R50000]

Notice of Inventory Completion: University of Oregon Museum of Natural and Cultural History, Eugene, OR

AGENCY: National Park Service, Interior.

ACTION: Notice.

SUMMARY: In accordance with the Native American Graves Protection and Repatriation Act (NAGPRA), the University of Oregon Museum of Natural and Cultural History has completed an inventory of human remains and has determined that there is a cultural affiliation between the human remains and Indian Tribes or Native Hawaiian organizations in this notice.

DATES: Repatriation of the human remains in this notice may occur on or after September 19, 2025.

ADDRESSES: Send written requests for repatriation of the human remains and associated funerary objects in this notice to Dr. Pamela Endzweig, Director of Anthropological Collections, University of Oregon Museum of Natural and Cultural History, 1224 University of Oregon, Eugene, OR 97403-1224, email endzweig@uoregon.edu.

SUPPLEMENTARY INFORMATION: This notice is published as part of the National Park Service's administrative responsibilities under NAGPRA. The determinations in this notice are the sole responsibility of the University of Oregon Museum of Natural and Cultural History, and additional information on the determinations in this notice, including the results of consultation, can be found in its inventory or related records. The National Park Service is not responsible for the determinations in this notice.

Abstract of Information Available

Human remains representing, at least, one individual have been identified. No associated funerary objects are present. The human remains (catalogued as 11-64, Accession 32) are from a female adult, estimated to have been 20-40 years of age. The remains were collected from an unknown site at an unknown date and transferred to the Museum in 1935. While the specific origin is not documented, cranial modification is consistent with a style of reshaping practiced by Native peoples along the lower Columbia River and northern Oregon coast (identified in 1930 as “Chinook deformation” by B. Oetteking).

Human remains representing, at least, one individual have been identified. No associated funerary objects are present. The human remains (catalogued as 11-65, Accession 32) are from a female adult, estimated to have been 34-45 years of age. The remains were collected from an unknown site at an unknown date and transferred to the Museum in 1935. While the specific origin is not documented, cranial modification is consistent with a style of reshaping practiced by Native peoples along the lower Columbia River and northern Oregon coast (identified in 1930 as “Chinook deformation” by B. Oetteking).

Human remains representing, at least, five individuals have been identified. No associated funerary objects are present. The human remains (catalogued as 11-526, Accession unknown) were labeled as “unknown, Indian” and represent a juvenile and four adults. They include one child of indeterminate sex aged 4-8 years, one adult of indeterminate sex, one male aged 30-35 years, one male aged 40+ years, and one probable male aged 35-50 years. The remains were collected from an unknown site(s) at an unknown date(s) and transferred to the Museum at an unknown date(s). Cranial modification present in the individual described as probably male aged 35-50 years is consistent with a style of reshaping practiced by Native peoples along the lower Columbia River and northern Oregon coast (identified in 1930 as “Chinook deformation” by B. Oetteking). It is assumed that the five individuals have the same origin.

Human remains representing, at least, one individual have been identified. No associated funerary objects are present. The human remains (catalogued as Unknown-4, Accession unknown) are from a male adult aged 21-30 years. The remains were collected from an unknown site at an unknown date and transferred to the Museum in 1991. While the specific origin is not documented, cranial modification is consistent with a style of reshaping practiced by Native peoples along the lower Columbia River and northern Oregon coast (identified in 1930 as “Chinook deformation” by B. Oetteking). In addition, the remains were transferred with a second set of remains said to be from Kilchis Point Village, near Tillamook. Their relationship is not documented.

Cultural Affiliation

Based on the information available and the results of consultation, cultural affiliation is reasonably identified by the geographical location or acquisition history of the human remains described in this notice.

Determinations

The University of Oregon Museum of Natural and Cultural History has determined that:

• The human remains described in this notice represent the physical remains of eight individuals of Native American ancestry.

• There is a connection between the human remains described in this notice and the Confederated Tribes and Bands of the Yakama Nation; Confederated Tribes of Siletz Indians of Oregon; Confederated Tribes of the Grand Ronde Community of Oregon; Confederated Tribes of the Umatilla Indian Reservation; Confederated Tribes of the Warm Springs Reservation of Oregon; and the Cowlitz Indian Tribe.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after September 19, 2025. If competing requests for repatriation are received, the University of Oregon Museum of Natural and Cultural History must determine the most appropriate requestor prior to repatriation. Requests for joint repatriation of the human remains are considered a single request and not competing requests. The University of Oregon Museum of Natural and Cultural History is responsible for sending a copy of this notice to the Indian Tribes and Native Hawaiian organizations identified in this notice and any other consulting parties.

Authority: Native American Graves Protection and Repatriation Act, 25 U.S.C. 3003, and the implementing regulations, 43 CFR 10.10.

Dated: August 5, 2025.
Melanie O'Brien,
Manager, National NAGPRA Program.

[FR Doc. 2025-15852 Filed 8-19-25; 8:45 am]

BILLING CODE 4312-52-P